DEPARTMENT OF THE TREASURY

Office of Foreign Assets Control

31 CFR Part 594

Publication of Global Terrorism Sanctions Regulations Web General Licenses 22, 23, 24, 25, 26, and 27

AGENCY: Office of Foreign Assets Control, Treasury.

ACTION: Publication of web general licenses.

SUMMARY: The Department of the Treasury's Office of Foreign Assets Control (OFAC) is publishing six general licenses (GLs) issued pursuant to the Global Terrorism Sanctions Regulations: GLs 22, 23, 24, 25, 26, and 27, each of which was previously made available on OFAC's website.

DATES: GL 22 was issued on January 17, 2024. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On January 17, 2024, OFAC issued GLs 22, 23, 24, 25, and 26 to authorize certain transactions otherwise prohibited by the Global Terrorism Sanctions Regulations, 31 CFR part 594 (GTSR). Each GL was made available on OFAC's website (https://ofac.treasury.gov) when it was issued. GL 27 was issued on January 22, 2024, and has an expiration date of March 22, 2024. The text of these GLs is provided below.

OFFICE OF FOREIGN ASSETS CONTROL

Global Terrorism Sanctions Regulations

31 CFR Part 594

GENERAL LICENSE NO. 22

Transactions Related to the Provision of Agricultural Commodities, Medicine, Medical Devices, Replacement Parts and Components, or Software Updates Involving Ansarallah

(a) Except as provided in paragraph (c) of this general license, all transactions prohibited by the Global Terrorism Sanctions Regulations, 31 CFR part 594 (GTSR), involving Ansarallah, or any entity in which Ansarallah owns, directly or indirectly, a 50 percent or greater interest, that are ordinarily incident and necessary to the provision (including sale) of agricultural commodities, medicine, medical devices, replacement parts and components for medical devices, or software updates for medical devices to Yemen, or to persons in third countries purchasing specifically for provision to Yemen, are authorized.

(b) For the purposes of this general license, agricultural commodities, medicine, and medical devices are defined as follows:

(1) Agricultural commodities. Agricultural commodities are products that:

(i) Fall within the term “agricultural commodity” as defined in section 102 of the Agricultural Trade Act of 1978 (7 U.S.C. 5602); and

(ii) Are intended for ultimate use in Yemen as:

(A) Food for humans (including raw, processed, and packaged foods; live animals; vitamins and minerals; food additives or supplements; and bottled drinking water) or animals (including animal feeds);

(B) Seeds for food crops;

(C) Fertilizers or organic fertilizers; or

(D) Reproductive materials (such as live animals, fertilized eggs, embryos, and semen) for the production of food animals.

(2) Medicine. Medicine is an item that falls within the definition of the term “drug” in section 201 of the Federal Food, Drug, and Cosmetic Act (21 U.S.C. 321).

(3) Medical devices. A medical device is an item that falls within the definition of “device” in section 201 of the Federal Food, Drug, and Cosmetic Act (21 U.S.C. 321).

(c) This general license does not authorize:

(1) Financial transfers to any blocked person described in paragraph (a) of this general license, other than for the purpose of effecting the payment of taxes, fees, or import duties, or the purchase or receipt of permits, licenses, or public utility services; or

(2) Any transactions otherwise prohibited by the GTSR, including transactions involving any person blocked pursuant to the GTSR other than the blocked persons described in paragraph (a) of this general license, unless separately authorized.

Note to paragraph (c)(2). See 31 CFR 594.521 of the GTSR for a general license authorizing transactions related to the provision of agricultural commodities, medicine, medical devices, replacement parts and components, or software updates for personal, non-commercial use.

Note to General License No. 22. Nothing in this general license relieves any person from compliance with any other Federal laws or requirements of other Federal agencies.

(d) This general license shall take effect on February 16, 2024.

Bradley T. Smith,

Director, Office of Foreign Assets Control.

Dated: January 17, 2024.

OFFICE OF FOREIGN ASSETS CONTROL

Global Terrorism Sanctions Regulations

31 CFR Part 594

GENERAL LICENSE NO. 23

Authorizing Transactions Related to Telecommunications Mail, and Certain Internet-Based Communications Involving Ansarallah

(a)(1) Except as provided in paragraph (d) of this general license, all transactions prohibited by the Global Terrorism Sanctions Regulations, 31 CFR part 594 (GTSR), involving Ansarallah, or any entity in which Ansarallah owns, directly or indirectly, a 50 percent or greater interest, with respect to the receipt or transmission of telecommunications to, from, or in Yemen are authorized.

(2) This paragraph does not authorize:

(i) The provision, sale, or lease of telecommunications equipment or technology; or

(ii) The provision, sale, or lease of capacity on telecommunications transmissions facilities (such as satellite or terrestrial network activity).

Note to paragraph (a). See 31 CFR 594.508 of the GTSR for a general license authorizing transactions related to telecommunications.

(b) Except as provided in paragraph (d) of this general license, the exportation, reexportation, or provision, directly or indirectly, from the United States or by U.S. persons, wherever located, to Yemen, of services, software, hardware, or technology incident to the exchange of communications over the internet, such as instant messaging, chat and email, social networking, sharing of photos and movies, web browsing, blogging, social media platforms, collaboration platforms, video conferencing, e-gaming, e-learning platforms, automated translation, web maps, and user authentication services, as well as cloud-based services in support of the foregoing, and domain name registration services, involving Ansarallah, or any entity in which Ansarallah owns, directly or indirectly, a 50 percent or greater interest, that is prohibited by the GTSR, is authorized, provided the exportation, reexportation, or provision is not to a person whose property and interests in property are blocked pursuant to the GTSR.

(c) Except as provided in paragraph (d) of this general license, all transactions of common carriers incident to the receipt or transmission of mail and packages between the United States and Yemen, or within Yemen, involving Ansarallah, or any entity in which Ansarallah owns, directly or indirectly, a 50 percent or greater interest, that are prohibited by the GTSR are authorized, provided that the importation or exportation of such mail and packages is not to or from any person blocked pursuant to the GTSR.

Note to paragraph (c). See 31 CFR 594.509 of the GTSR for a general license authorizing transactions related to mail.

(d) This general license does not authorize:

(1) Financial transfers to any blocked person described in paragraph (a) of this general license, other than for the purpose of effecting the payment of taxes, fees, or import duties, or the purchase or receipt of permits, licenses, or public utility services; or

(2) Any transactions otherwise prohibited by the GTSR, including transactions involving any person blocked pursuant to the GTSR other than the blocked persons described in paragraph (a) of this general license, unless separately authorized.

(e) This general license shall take effect on February 16, 2024.

Bradley T. Smith,

Director, Office of Foreign Assets Control.

Dated: January 17, 2024.

OFFICE OF FOREIGN ASSETS CONTROL

Global Terrorism Sanctions Regulations

31 CFR Part 594

GENERAL LICENSE NO. 24

Authorizing Noncommercial, Personal Remittances Involving Ansarallah

(a) Except as provided in paragraph (c) of this general license, all transactions prohibited by the Global Terrorism Sanctions Regulations, 31 CFR part 594 (GTSR), involving Ansarallah, or any entity in which Ansarallah owns, directly or indirectly, a 50 percent or greater interest, that are ordinarily incident and necessary to the transfer of noncommercial, personal remittances to or from an individual in Yemen, are authorized, provided the individual is not a person whose property or interests in property are blocked pursuant to the GTSR.

Note to paragraph (a). Noncommercial, personal remittances do not include charitable donations of funds to or for the benefit of an entity or funds transfers for use in supporting or operating a business, including a family-owned business.

(b) Transferring institutions may rely on the originator of a funds transfer with regard to compliance with paragraph (a) of this general license, provided that the transferring institution does not know or have reason to know that the funds transfer is not in compliance with paragraph (a).

(c) This general license does not authorize:

(1) Financial transfers to any blocked person described in paragraph (a) of this general license, other than for the purpose of effecting the payment of taxes, fees, or import duties, or the purchase or receipt of permits, licenses, or public utility services; or

(2) Any transactions otherwise prohibited by the GTSR, unless separately authorized.

(d) This general license shall take effect on February 16, 2024.

Bradley T. Smith,

Director, Office of Foreign Assets Control.

Dated: January 17, 2024.

OFFICE OF FOREIGN ASSETS CONTROL

Global Terrorism Sanctions Regulations

31 CFR Part 594

GENERAL LICENSE NO. 25

Authorizing Transactions Related to Refined Petroleum Products in Yemen Involving Ansarallah

(a) Except as provided in paragraph (b) of this general license, all transactions prohibited by the Global Terrorism Sanctions Regulations, 31 CFR part 594 (GTSR), involving Ansarallah, or any entity in which Ansarallah owns, directly or indirectly, a 50 percent or greater interest, that are ordinarily incident and necessary to the provision (including sale) of refined petroleum products for personal, commercial, or humanitarian use in Yemen are authorized.

(b) This general license does not authorize:

(1) Any commercial resale, transfer, exportation, or reexporation of refined petroleum products from Yemen;

(2) Financial transfers to any blocked person described in paragraph (a), other than for the purpose of effecting the payment of taxes, fees, or import duties, or the purchase or receipt of permits, licenses, or public utility services; or

(3) Any transactions otherwise prohibited by the GTSR, including transactions involving any person blocked pursuant to the GTSR other than the blocked persons described in paragraph (a) of this general license, unless separately authorized.

(c) This general license shall take effect on February 16, 2024.

Bradley T. Smith,

Director, Office of Foreign Assets Control.

Dated: January 17, 2024.

OFFICE OF FOREIGN ASSETS CONTROL

Global Terrorism Sanctions Regulations

31 CFR Part 594

GENERAL LICENSE NO. 26

Authorizing Certain Transactions Necessary to Port and Airport Operations Involving Ansarallah

(a) Except as provided in paragraph (b) of this general license, all transactions prohibited by the Global Terrorism Sanctions Regulations, 31 CFR part 594 (GTSR), involving Ansarallah, or any entity in which Ansarallah owns, directly or indirectly, a 50 percent or greater interest, that are ordinarily incident and necessary to the operation of, or import or export of goods or transit of passengers through, ports and airports in Yemen are authorized.

(b) This general license does not authorize:

(1) Financial transfers to any blocked person described in paragraph (a), other than for the purpose of effecting the payment of taxes, fees, or import duties, or the purchase or receipt of permits, licenses, or public utility services;

(2) Transactions involving imports or exports of arms or related materiel; or

(3) Any transactions otherwise prohibited by the GTSR, unless separately authorized.

Note to General License No. 26. Nothing in this general license relieves any exporter from compliance with the requirements of other Federal agencies, including the Department of Commerce's Bureau of Industry and Security.

(c) This general license shall take effect on February 16, 2024.

Bradley T. Smith,

Director, Office of Foreign Assets Control.

Dated: January 17, 2024.

OFFICE OF FOREIGN ASSETS CONTROL

Global Terrorism Sanctions Regulations

31 CFR Part 594

GENERAL LICENSE NO. 27

Authorizing Civil Aviation Safety and Wind Down Transactions Involving Fly Baghdad

(a) Except as provided in paragraph (c) of this general license, all transactions prohibited by the Global Terrorism Sanctions Regulations, 31 CFR part 594 (GTSR), that are ordinarily incident and necessary to the provision, exportation, or reexportation of goods, technology, or services to ensure the safety of civil aviation involving Fly Baghdad are authorized through 12:01 a.m. eastern daylight time, March 22, 2024, provided that the goods, technology, or services that are provided, exported, or reexported are for use on aircraft operated solely for civil aviation purposes.

(b) Except as provided in paragraph (c) of this general license, all transactions prohibited by the GTSR that are ordinarily incident and necessary to the wind down of any transaction involving Fly Baghdad are authorized through 12:01 a.m. eastern daylight time, March 22, 2024, provided that any payment to Fly Baghdad must be made into a blocked account in accordance with the GTSR.

(c) This general license does not authorize any transactions otherwise prohibited by the GTSR, including transactions involving any person blocked pursuant to the GTSR other than Fly Baghdad, unless separately authorized.

Note to General License 27. Nothing in this general license relieves any person from compliance with any other Federal laws or requirements of other Federal agencies, including export, reexport, and transfer (in-country) licensing requirements maintained by the Department of Commerce's Bureau of Industry and Security under the Export Administration Regulations, 15 CFR parts 730-774.

Bradley T. Smith,

Director, Office of Foreign Assets Control.

Dated: January 22, 2024.

Bradley T. Smith,
Director, Office of Foreign Assets Control.

[FR Doc. 2024-03627 Filed 2-21-24; 8:45 am]

BILLING CODE 4810-AL-P